DEPARTMENT OF HOUSING AND URBAN DEVELOPMENT

[Docket No. FR-5076-D-15]

Redelegation of Authority to the Director of the HUD Office of Healthy Homes and Lead Hazard Control Regarding Lead-Based Paint Enforcement

AGENCY: Office of the Assistant Secretary for Housing—Federal Housing Commissioner, HUD.

ACTION: Notice of redelegation of authority.

SUMMARY: This notice redelegates to the Director of the Office of Healthy Homes and Lead Hazard Control authority presently residing with the Assistant Secretary for Housing—Federal Housing Commissioner or the Assistant Secretary's designee under 24 CFR 30.45 and 30.68 with respect to enforcement of lead-based paint requirements. These lead-based paint regulations, which are set out in 24 CFR part 35, subparts B, G, H, and R, require the notification, evaluation, and reduction of lead-based paint hazards in (1) multifamily residential properties for which HUD is the owner of the mortgage or for which a lender receives mortgage insurance, including non-residential properties being converted to multifamily residential properties and (2) multifamily residential properties for which the owner receives project-based housing assistance.

DATES: Effective Date: June 8, 2007.

FOR FURTHER INFORMATION CONTACT: Matthew Ammon, Deputy Director, Office of Healthy Homes and Lead Hazard Control, Department of Housing and Urban Development, 451 Seventh Street, SW., Room 8236, Washington, DC 20410-3000; telephone (202) 755-1785, extension 4337 (this is not a toll-free number). Speech- or hearing-impaired individuals may access this number through TTY by calling the toll-free Federal Information Relay Service at (800) 877-8339.

SUPPLEMENTARY INFORMATION: HUD regulations at 24 CFR part 35, subparts B through R, set out general lead-based paint requirements for all federally-assisted pre-1978 housing. Specifically, subparts B and R set forth general requirements applying to all HUD programs and subparts G and H describe the procedures for notification, evaluation, and reduction of lead-based paint hazards in (1) multifamily residential properties for which HUD is the owner of the mortgage or for which a lender receives mortgage insurance, including non-residential properties being converted to multifamily residential properties and (2) multifamily residential properties for which an owner receives project-based housing assistance, respectively.

HUD regulations at 24 CFR 30.45 and 30.68 authorize the Assistant Secretary for Housing—Federal Housing Commissioner, or the Assistant Secretary's designee, to initiate civil money penalty actions for violations of section 537(c)(1)(B) of the National Housing Act (12 U.S.C. 1735f-15(c)(1)(B)) and for violations of Section 8 of the United States Housing Act of 1937 (42 U.S.C. 1437f), including the failure to provide decent, safe, and sanitary housing, as set out by 24 CFR 5.703. Pursuant to this authority, the Assistant Secretary for Housing—Federal Housing Commissioner redelegates to the Director of the Office of Healthy Homes and Lead Hazard Control authority to initiate civil money penalty actions pursuant to 24 CFR 30.45 and 30.68 against a property owner who fails to provide information documenting compliance with or fails to comply with HUD regulations that require the notification, evaluation, and reduction of lead-based paint hazards in (1) multifamily residential properties for which HUD is the owner of the mortgage or for which a lender receives mortgage insurance, including non-residential properties being converted to multifamily residential properties and (2) multifamily properties for which an owner receives project-based housing assistance as set out in 24 CFR part 35, subparts B, G, H, and R.

Accordingly, the Assistant Secretary for Housing—Federal Housing Commissioner hereby retains and redelegates authority as follows:

I. Redelegation of Authority

The Director of the Office of Healthy Homes and Lead Hazard Control is hereby authorized to initiate a civil money penalty action pursuant to and within the scope of 24 CFR 30.45 and 30.68 against property owners who fail to provide information documenting compliance with or fail to comply with HUD regulations that require the notification, evaluation, and reduction of lead-based paint hazards in (1) multifamily residential properties for which HUD is the owner of the mortgage or for which a lender receives mortgage insurance, including non-residential properties being converted to multifamily residential properties and (2) multifamily residential properties for which an owner receives project-based housing assistance as set out in 24 CFR part 35, subparts B, G, H, and R.

II. Authority To Redelegate

The Director of the Office of Healthy Homes and Lead Hazard Control is not authorized to redelegate the authority described herein.

III. Revocation

The Assistant Secretary for Housing—Federal Housing Commissioner may revoke the authority authorized herein, in whole or in part, at any time.

Dated: June 8, 2007.
Brian D. Montgomery,
Assistant Secretary for Housing—Federal Housing Commissioner.

[FR Doc. E7-11747 Filed 6-18-07; 8:45 am]

BILLING CODE 4210-67-P